DEPARTMENT OF COMMERCE

International Trade Administration

[A-570-830]

Coumarin From the People's Republic of China: Notice of Extension of Time Limit for Preliminary Results of Antidumping Duty Administrative Review

AGENCY: Import Administration, International Trade Administration, Department of Commerce.

ACTION: Notice of extension of time limit for preliminary results of antidumping duty administrative review.

EFFECTIVE DATE: October 24, 2000.

FOR FURTHER INFORMATION CONTACT: Mark Hoadley, Import Administration, International Trade Administration, U.S. Department of Commerce, 14th Street and Constitution Avenue, NW., Washington, DC 20230; telephone: (202) 482-0666.

The Applicable Statute

Unless otherwise indicated, all citations to the Tariff Act of 1930, as amended (the Act), are to the provisions effective January 1, 1995, the effective date of the amendments made to the Act by the Uruguay Round Agreements Act. In addition, unless otherwise indicated, all citations to the Department's regulations are to 19 CFR part 351 (1999).

Extension of Time Limit for Preliminary Results

On February 9, 1995, the Department of Commerce published an antidumping duty order on coumarin from the People's Republic of China (60 FR 7751). The Department received requests to conduct an administrative review of this antidumping duty order. The review was initiated on March 30, 2000 for Jiangsu Native Produce Import & Export Corp. (Jiangsu) at the request of petitioner (65 FR 16875), and on June 2, 2000 for Netchem Inc. (Netchem) at the request of Netchem (65 FR 35320). On July 31, 2000, Jiangsu submitted a letter to the Department stating that it would no longer participate in the review. This antidumping duty administrative review covers the period of February 1, 1999 through January 31, 2000.

Because of the complexity of certain issues, it is not practicable to complete this review within the time limit mandated by section 751(a)(3)(A) of the Act. Therefore, in accordance with that section, the Department is extending the time limit for the preliminary results to no later than February 28, 2001 (See Memorandum from Barbara E. Tillman to Joseph A. Spetrini, Extension of Time Limit, October 12, 2000).

Dated: October 13, 2000.
Barbara E. Tillman,
Acting Deputy Assistant Secretary for AD/CVD Enforcement Group III.

[FR Doc. 00-27302 Filed 10-23-00; 8:45 am]

BILLING CODE 3510-DS-P